DEPARTMENT OF COMMERCE

Foreign-Trade Zones Board

[S-001-2015]

Approval of Subzone Status; Red Wing Shoe Company; Salt Lake City, Utah

On January 8, 2015, the Executive Secretary of the Foreign-Trade Zones (FTZ) Board docketed an application submitted by the Salt Lake City Corporation, grantee of FTZ 30, requesting subzone status subject to the existing activation limit of FTZ 30, on behalf of Red Wing Shoe Company, Inc., in Salt Lake City, Utah.

The application was processed in accordance with the FTZ Act and Regulations, including notice in the Federal Register inviting public comment (80 FR 1894, 01/14/2015). The FTZ staff examiner reviewed the application and determined that it meets the criteria for approval. Pursuant to the authority delegated to the FTZ Board Executive Secretary (15 CFR 400.36(f)), the application to establish Subzone 30A is approved, subject to the FTZ Act and the Board's regulations, including section 400.13, and further subject to FTZ 30's 55-acre activation limit.

Dated: February 25, 2015.
Andrew McGilvray,
Executive Secretary.

[FR Doc. 2015-04390 Filed 3-2-15; 8:45 am]

BILLING CODE 3510-DS-P